DEPARTMENT OF AGRICULTURE

Commodity Credit Corporation

Notice of Request for Extension of Currently Approved Information Collection

AGENCY: Commodity Credit Corporation, USDA.

ACTION: Notice and request for comments.

SUMMARY: In accordance with the Paperwork Reduction Act of 1995, this notice announces the Commodity Credit Corporation's (CCC) intention to request an extension from the Office of Management and Budget (OMB) for a currently approved information collection in support of the Technical Assistance for Specialty Crops (TASC) program.

DATES: Comments on this notice must be received by May 4, 2009 to be assured of consideration.

ADDITIONAL INFORMATION OR COMMENTS: Contact Director, Program Operations Division, Foreign Agricultural Service, Portals Office Building, Suite 400, 1250 Maryland Avenue, SW., Washington, DC 20024, (202) 720-4327, fax: (202) 720-9361, e-mail: ppsadmin@fas.usda.gov.

SUPPLEMENTARY INFORMATION: Title: Technical Assistance for Specialty Crops.

OMB Number: 0551-0038.

Expiration Date of Approval: June 30, 2009.

Type of Request: Extension of a currently approved information collections.

Abstract: This information is needed to administer the CCC Technical Assistance for Specialty Crops program. The information will be gathered from applicants desiring to receive grants under the program to determine the viability of requests for funds. Regulations governing the program appear at 7 CFR part 1487 and are available on the Foreign Agricultural Service's Web site.

Estimate of Burden: Public reporting burden for this collection of information is estimated to average 32 hours per respondent.

Respondents: U.S. government agencies, State government agencies, non-profit trade associations, universities, agricultural cooperatives, and private companies.

Estimated Number of Respondents: 50.

Estimated Number of Responses per Respondent: 5.

Estimated Total Annual Burden on Respondents: 1,600 hours.

Copies of this information collection can be obtained from Tamoria Thompson-Hall, the Agency Information Collection Coordinator, at (202) 690-1690.

Request for Comments: Send comments regarding the accuracy of the burden estimate and ways to minimize the burden, including through the use of automated collection techniques or other forms of information technology, or any other aspect of this collection of information. Persons with disabilities who require an alternative means for communication of information (Braille, large print, audiotape, etc.) should contact USDA's Target Center at (202) 720-2600 (voice and TDD).

Comments may be sent to Director, Program Operations Division, Foreign Agricultural Service, Portals Office Building, Suite 400, 1250 Maryland Avenue, SW., Washington, DC 20024 and the Desk Officer for Agriculture, Office of Information and Regulatory Affairs, Office of Management and Budget, Washington, DC 20503. Facsimile submissions may be sent to (202) 720-9361 and electronic mail submissions should be addressed to: ppsadmin@fas.usda.gov.

All responses to this notice will be summarized and included in the request for OMB approval. All comments will also become a matter of public record.

Signed at Washington, DC on January 27, 2009.
Suzanne Hale,
Acting Administrator, Foreign Agricultural Service, and Acting Vice President, Commodity Credit Corporation.

[FR Doc. E9-4698 Filed 3-4-09; 8:45 am]

BILLING CODE 3410-10-P